DEPARTMENT OF THE TREASURY

Office of the General Counsel; Appointment of Members of the Legal Division to the Performance Review Board, Internal Revenue Service

Under the authority granted to me as Chief Counsel of the Internal Revenue Service by the General Counsel of the Department of the Treasury by General Counsel Order No. 21 (Rev. 4), pursuant to the Civil Service Reform Act, I have appointed the following persons to the Legal Division Performance Review Board, Internal Revenue Service Panel:

1. Chairperson, Nicholas J. DeNovio, Deputy Chief Counsel (Technical)

2. Heather C. Maloy, Associate Chief Counsel (Passthroughs & Special Industries)

3. Thomas R. Thomas, Division Counsel (Small Business/Self-Employed)

4. Edward L. Patton, Deputy Associate Chief Counsel (General Legal Services)

5. Joseph F. Maselli, Area Counsel, Division Counsel (Large & Mid-Size Business)

This publication is required by 5 U.S.C. 4314(c)(4).

Dated: August 25, 2004.
Donald L. Korb,
Chief Counsel, Internal Revenue Service.

[FR Doc. 04-19934 Filed 8-31-04; 8:45 am]

BILLING CODE 4830-01-P